DEPARTMENT OF ENERGY

Federal Energy Regulatory Commission

[Project No. 12717-002]

Northern Illinois Hydropower, LLC; Notice of Meeting

a. Date and Time of Meeting: Thursday, January 26, 2012 from 11 a.m. to 12 p.m. EST.

b. Place: Federal Energy Regulatory Commission, 888 First Street NE., Washington, DC 20426.

c. FERC Contact: Janet Hutzel, (202) 502-8675 or janet.hutzel@ferc.gov.

d. Purpose of Meeting: Commission staff will meet with Northern Illinois Hydropower, LLC to discuss potentially moving the powerhouse location for the Brandon Road Project No. 12717, and the effects moving the powerhouse may have on processing the license application.

e. All local, state, and Federal agencies, tribes, and interested parties are hereby invited to participate. Please contact Janet Hutzel at (202) 502-8675 or via email at janet.hutzel@ferc.gov by the close of business on Friday, January 20, 2012 to attend via teleconference.

Dated: January 9, 2012.
Kimberly D. Bose,
Secretary.

[FR Doc. 2012-689 Filed 1-13-12; 8:45 am]

BILLING CODE 6717-01-P